DEPARTMENT OF THE INTERIOR

Fish and Wildlife Service

[FWS-HQ-R-2017-N102; FXRS12630900000-167-FF09R81000; OMB Control Number 1018-0140]

Agency Information Collection Activities; Hunting and Fishing Application Forms and Activity Reports for National Wildlife Refuges

AGENCY: Fish and Wildlife Service, Interior.

ACTION: Notice of Information Collection; request for comment.

SUMMARY: In accordance with the Paperwork Reduction Act of 1995, we, the U.S. Fish and Wildlife Service (Service) are proposing to revise an information collection.

DATES: Interested persons are invited to submit comments on or before October 30, 2017.

ADDRESSES: Send your comments on the information collection request (ICR) by mail to the Service Information Collection Clearance Officer, U.S. Fish and Wildlife Service, MS: BPHC, 5275 Leesburg Pike, Falls Church, VA 22041-3803 (mail); or by email to Info_Coll@fws.gov. Please reference OMB Control Number 1018-0140 in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Wildlife Refuge System Administration Act of 1966 (16 U.S.C. 668dd-668ee), as amended (Administration Act), and the Refuge Recreation Act of 1962 (16 U.S.C. 460k-460k-4) (Recreation Act) govern the administration and uses of national wildlife refuges and wetland management districts. The Administration Act consolidated all the different refuge areas into a single Refuge System. It also authorizes us to permit public uses, including hunting and fishing, on lands of the Refuge System when we find that the activity is compatible and appropriate with the purpose for which the refuge was established. The Recreation Act allows the use of refuges for public recreation when the use is not inconsistent or does not interfere with the primary purpose(s) of the refuge.

We administer 373 hunting programs and 310 fishing programs on 411 refuges and wetland management districts. We only collect user information at about 20 percent of these refuges. Information that we plan to collect will help us:

• Administer and monitor hunting and fishing programs on refuges.

• Distribute hunting and fishing permits in a fair and equitable manner to eligible participants.

We use nine application and report forms associated with hunting and fishing on refuges. We may not allow all opportunities on all refuges; therefore, we developed different forms to simplify the process and avoid confusion for applicants. The currently approved forms are available online at http://www.fws.gov/forms/. Not all refuges will use each form and some refuges may collect the identical information in a non-form format (meaning there is no designated form associated with the collection of information).

We use the following application forms when we assign areas, dates, and/or types of hunts via a drawing because of limited resources, high demand, or when a permit is needed to hunt. We issue application forms for specific periods, usually seasonally or annually.

• FWS Form 3-2354 (Quota Deer Hunt Application).

• FWS Form 3-2355 (Waterfowl Lottery Application).

• FWS Form 3-2356 (Big/Upland Game Hunt Application).

• FWS Form 3-2357 (Migratory Bird Hunt Application).

• FWS Form 3-2358 (Fishing/Shrimping/Crabbing Application).

Forms 3-2354 through 3-2358 collect information on:

• Applicant (name, address, phone number) so that we can notify applicants of their selection.

• User preferences (dates, areas, method) so that we can distribute users equitably.

• Whether or not the applicant is applying for a special opportunity for disabled or youth hunters.

• Age of youth hunter(s) so that we can establish eligibility.

We ask users to report on their success after their experience so that we can evaluate hunting/fishing quality and resource impacts. We use the following activity reports, which we distribute during appropriate seasons, as determined by State or Federal regulations.

• FWS Form 3-2359 (Big Game Harvest Report).

• FWS Form 3-2360 (Fishing Report).

• FWS Form 3-2361 (Migratory Bird Hunt Report).

• FWS Form 3-2362 (Upland/Small Game/Furbearer Report).

Forms 3-2359 through 3-2362 collect information on:

• Names of users so we can differentiate between responses.

• City and State of residence so that we can better understand if users are local or traveling.

• Dates, time, and number in party so we can identify use trends and allocate staff and resources.

• Details of success by species so that we can evaluate quality of experience and resource impacts.

Title of Collection: Hunting and Fishing Application Forms and Activity Reports for National Wildlife Refuges, 50 CFR 25.41, 25.43, 25.51, 26.32, 26.33, 27.42, 30.11, 31.15, 32.1 to 32.72.

OMB Control Number: 1018-0140.

Form Number: FWS Forms 3-2354 through 3-2362.

Type of Review: Revision to a currently approved collection.

Respondents/Affected Public: Individuals and households.

Respondent's Obligation: Required to obtain or retain a benefit.

Frequency of Collection: On occasion (for applications, usually once per year at the beginning of the hunting season; for activity reports, once at the conclusion of the hunting/fishing experience).

Total Estimated Annual Nonhour Burden Cost: We estimate the annual non-hour cost burden to be $60,000 for hunting application fees at some refuges.

Requirement | Annual number of respondents | Total annual responses | Completion time per response | Total annual burden hours
Hunting/Fishing Applications
Form 3-2354, “Quota Deer Hunt Application” | 169,200 | 169,200 | 30 minutes | 84,600
Form 3-2355, “Waterfowl Lottery Application” | 87,400 | 87,400 | 30 minutes | 43,700
Form 3-2356, “Big/Upland Game Hunt Application” | 2,400 | 2,400 | 30 minutes | 1,200
Form 3-2357 “Migratory Bird Hunt Application” | 4,900 | 4,900 | 30 minutes | 2,450
Form 3-2358, “Fishing/Shrimping/Crabbing Application” | 2,400 | 2,400 | 30 minutes | 1,200
Harvest/Fishing Activity Reports
Form 3-2359, “Big Game Harvest Report” | 82,700 | 82,700 | 15 minutes | 20,675
Form 3-2360, “Fishing Report” | 387,300 | 387,300 | 15 minutes | 96,825
Form 3-2361, “Migratory Bird Hunt Report” | 29,100 | 29,100 | 15 minutes | 7,275
Form 3-2362, “Upland/Small Game/Furbearer Report” | 24,400 | 24,400 | 15 minutes | 6,100
Totals | 789,800 | 789,800 |  | 264,025

An agency may not conduct or sponsor and a person is not required to respond to a collection of information unless it displays a currently valid OMB control number.

The authority for this action is the Paperwork Reduction Act of 1995 (44 U.S.C. 3501 et seq).

Dated: August 28, 2017.
Madonna L. Baucum,
Information Collection Clearance Officer, U.S. Fish and Wildlife Service.

[FR Doc. 2017-18489 Filed 8-30-17; 8:45 am]

BILLING CODE 4333-15-P